DEPARTMENT OF COMMERCE

Bureau of Industry and Security

[Docket No. 051017266-5266-01]

Correction to “Revision to the Unverified List—Guidance as to ‘Red Flags’ ”

AGENCY: Bureau of Industry and Security, Commerce.

ACTION: Notice

SUMMARY: In a Federal Register Notice published on October 31, 2005, (Federal Register, Vol. 70, No. 209, page 62295), the Department of Commerce, Bureau of Industry and Security published a notice entitled “Revision to the Unverified List—Guidance as to ‘Red Flags’ ”. This notice inadvertently included a misspelling of the name of one Entity: “Elaton Company” should have been spelled “Etalon Company”. This Notice advises exporters that the correct information for this Entity is: Etalon Company, 20B Berezhkovskaya Naberezhnaya, Moscow, Russia.

DATES: This notice is effective December 8, 2005.

FOR FURTHER INFORMATION CONTACT: Thomas W. Andrukonis, Office of Enforcement Analysis, Bureau of Industry and Security, Telephone: (202) 482-4255.

For the convenience of the reader the Unverified List, as modified by this notice, is set forth below.

Darryl W. Jackson,
Assistant Secretary for Export Enforcement.

Unverified List
[As of December 8, 2005]
Name | Country | Last known address
Lucktrade International | Hong Kong Special Administrative Region | P.O. Box 91150, Tsim Sha Tsui, Hong Kong.
Brilliant Intervest | Malaysia | 14-1, Persian 65C, Jalan Pahang Barat, Kuala Lumpur, 53000.
Dee Communications M SDN. BHD | Malaysia | G5/G6, Ground Floor, Jin Gereja, Johor Bahru.
Peluang Teguh | Singapore | 203 Henderson Road #09-05H, Henderson Industrial Park.
Lucktrade International PTE Ltd. | Singapore | 35 Tannery Road #01-07 Tannery Block Ruby Industrial Complex, Singapore 347740.
Arrow Electronics Industries | United Arab Emirates | 204 Arbift Tower, Benyas Road, Dubai.
Jetpower Industrial Ltd. | Hong Kong Special Administrative Region | Room 311, 3rd Floor, Wing On Plaza, 62 Mody Road, Tsim Sha Tsui East, Kowloon.
Onion Enterprises Ltd. | Hong Kong Special Administrative Region | Room 311, 3rd Floor, Wing On Plaza, 62 Mody Road, Tsim Sha Tsui East, Kowloon.
Lucktrade International | Hong Kong Special Administrative Region | Room 311, 3rd Floor, Wing On Plaza, 62 Mody Road, Tsim Sha Tsui East, Kowloon.
Litchfield Co. Ltd. | Hong Kong Special Administrative Region | Room 311, 3rd Floor, Wing On Plaza, 62 Mody Road, Tsim Sha Tsui East, Kowloon.
Sunford Trading Ltd. | Hong Kong Special Administrative Region | Unit 2208, 22/F, 118 Connaught Road West.
Parrlab Technical Solutions, LTD | Hong Kong Special Administrative Region | 1204, 12F Shanghai Industrial Building, 48-62 Hennesey Road, Wan Chai.
T.Z.H. International Co. Ltd. | Hong Kong Special Administrative Region | Room 23, 2/F, Kowloon Bay Ind Center, No. 15 Wany Hoi Rd, Kowloon Bay.
Design Engineering Center | Pakistan | House 184, Street 36, Sector F-10/1, Islamabad.
Kantry | Russia | 13/2 Begovaya Street, Moscow.
Etalon Company | Russia | 20B Berezhkovskaya Naberezhnaya, Moscow.
Pskovenergo Service | Russia | 47-A Sovetskaya Street, Pskov, Russia Federation, 180000.

[FR Doc. 05-23805 Filed 12-7-05; 8:45 am]

BILLING CODE 3510-33-M